DEPARTMENT OF HOUSING AND URBAN DEVELOPMENT

[Docket No. FR-5480-N-51]

Notice of Submission of Proposed Information Collection to OMB Section 3 Business Self-Certification Application

AGENCY: Office of the Chief Information Officer, HUD.

ACTION: Notice.

SUMMARY: The proposed information collection requirement described below has been submitted to the Office of Management and Budget (OMB) for review, as required by the Paperwork Reduction Act. The Department is soliciting public comments on the subject proposal.

The information collected from the Section 3 Business Self-Certification Application will allow HUD and recipients of covered HUD funding to identify Section 3 Businesses within their communities. The overriding purpose of this information collection is to ensure that contracting opportunities are provided to Section 3 businesses in fulfillment of the regulatory requirements set forth at 24 CFR part 135, and to increase the capacity of covered agencies to comply with the requirements of Section 3. HUD will use the information to identify firms that self-certify that they meet the regulatory definition of a Section 3 Business. The information collected from the Section 3 Business Self-Certification Application will be posted in a registry of Section 3 Businesses which will be posted on HUD's webpage. Agencies that receive covered HUD funding in the five pilot locations will be encouraged to notify the Section 3 Businesses contained in HUD's registry about the availability of covered contracting opportunities.

DATES: Comments Due Date: July 18, 2011.

ADDRESSES: Interested persons are invited to submit comments regarding this proposal.

Comments should refer to the proposal by name and/or OMB approval Number (2529-Pending) and should be sent to: HUD Desk Officer, Office of Management and Budget, New Executive Office Building, Washington, DC 20503; e-mail: OIRA-Submission@omb.eop.gov, fax: 202-395-5806.

FOR FURTHER INFORMATION CONTACT: Colette Pollard, Reports Management Officer, QDAM, Department of Housing and Urban Development, 451 Seventh Street, SW., Washington, DC 20410; e-mail: Colette Pollard at Colette.Pollard@hud.gov; or telephone: (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

This notice also lists the following information:

Title of Proposal: Section 3 Business Self-Certification Application.

OMB Approval Number: 2529-Pending.

Form Numbers: None.

Description of the Need for the Information and Its Proposed Use: The information collected from the Section 3 Business Self-Certification Application will allow HUD and recipients of covered HUD funding to identify Section 3 Businesses within their communities. The overriding purpose of this information collection is to ensure that contracting opportunities are provided to Section 3 businesses in fulfillment of the regulatory requirements set forth at 24 CFR part 135, and to increase the capacity of covered agencies to comply with the requirements of Section 3. HUD will use the information to identify firms that self-certify that they meet the regulatory definition of a Section 3 Business. The information collected from the Section 3 Business Self-Certification Application will be posted in a registry of Section 3 Businesses which will be posted on HUD's webpage. Agencies that receive covered HUD funding in the five pilot locations will be encouraged to notify the Section 3 Businesses contained in HUD's registry about the availability of covered contracting opportunities.

Frequency of Submission: On occasion.

Estimation of the Total Numbers of Hours Needed To Prepare the Information Collection Including Number of Respondents, Frequency of Responses, and Hours of Responses: The Department estimates that approximately 20,000 businesses in the five pilot locations may complete the Section 3 Self-Certification Application during the six-month pilot program.

It is estimated that each application will take approximately 30 minutes to complete for a total of 10,000 hours.

Total Estimated Burden Hours: 10,000.

Status: New collection.

Authority: Section 3507 of the Paperwork Reduction Act of 1995, 44 U.S.C. 35, as amended.

Dated: June 09, 2011.
Colette Pollard,
Departmental Reports Management Officer, Office of the Chief Information Officer.

[FR Doc. 2011-14909 Filed 6-15-11; 8:45 am]

BILLING CODE 4210-67-P